DEPARTMENT OF JUSTICE

Antitrust Division

Notice Pursuant to the National Cooperative Research and Production Act of 1993—SAE Consortium Ltd.

Notice is hereby given that, on January 25, 2008, pursuant to section 6(a) of the National Cooperative Research and Production Act of 1993, 15 U.S.C. 4301 et. seq. (“the Act”), SAE Consortium Ltd. (“SAEC”) has filed written notifications simultaneously with the Attorney General and the Federal Trade Commission disclosing changes in its membership. The notifications were filed for the purpose of extending the Act's provisions limiting the recovery of antitrust plaintiffs to actual damages under specified circumstances. Specifically, Novartis Pharmaceuticals Corporation, East Hanover, NJ has been added as a party to this venture.

No other changes have been made in either the membership or planned activity of the group research project. Membership in this group research project remains open, and SAEC intends to file additional written notification disclosing all changes in membership.

On September 27, 2007, SAEC filed its original notification pursuant to section 6(a) of the Act. The Department of Justice published a notice in the Federal Register pursuant to section 6(b) of the Act on November 7, 2007 (72 FR 62867).

Patricia A. Brink,
Deputy Director of Operations, Antitrust Division.

[FR Doc. 08-923 Filed 3-3-08; 8:45 am]

BILLING CODE 4410-11-M